POSTAL SERVICE

Product Change—Priority Mail Negotiated Service Agreement

AGENCY: Postal Service™.

ACTION: Notice.

SUMMARY: The Postal Service gives notice of filing a request with the Postal Regulatory Commission to add a domestic shipping services contract to the list of Negotiated Service Agreements in the Mail Classification Schedule's Competitive Products List.

DATES: Effective date: January 5, 2016.

FOR FURTHER INFORMATION CONTACT: Maria W. Votsch, 202-268-6525.

SUPPLEMENTARY INFORMATION: The United States Postal Service® hereby gives notice that, pursuant to 39 U.S.C. 3642 and 3632(b)(3), on December 28, 2015, it filed with the Postal Regulatory Commission a Request of the United States Postal Service to Add Priority Mail Contract 182 to Competitive Product List. Documents are available at www.prc.gov, Docket Nos. MC2016-68, CP2016-83.

Stanley F. Mires,
Attorney, Federal Compliance.

[FR Doc. 2015-33111 Filed 1-4-16; 8:45 am]

BILLING CODE 7710-12-P